ENVIRONMENTAL PROTECTION AGENCY

[TRI-2003-0001; FRL 6723-4]

Toxic Chemical Release Reporting; Community Right-to-Know; Notice of On-Line Dialogue

AGENCY: Environmental Protection Agency (EPA).

ACTION: Notice of availability; request for public comment.

SUMMARY: EPA will hold an on-line public dialogue on options for reducing the burden on the regulated industry associated with the Toxics Release Inventory (TRI) program. This dialogue serves as Phase 2 of the national Stakeholder Dialogue that the Environmental Protection Agency (EPA) has been conducting with the public on various TRI issues; Phase 1 was launched in September 2002. EPA is seeking suggestions and ideas on a number of burden reduction options including, but not limited to: establishing higher reporting thresholds for small businesses or for certain classes of facilities or chemicals; modifying the eligibility requirements of the Form A Certification Statement to expand its use; creating a new form allowing facilities meeting certain criteria to certify to no significant change in reporting in the current year as measured against a designated baseline year; and using range codes in Section 8 of the Form R. EPA is also soliciting comments on potential enhancements to its TRI-ME reporting software. Instructions for participating in the on-line dialogue are posted at EPA's TRI Web site at http://www.epa.gov/tri/programs/stakeholders/outreach.htm. Through this notice EPA is announcing the availability of a paper which is intended to provide background on a number of burden reduction options and help focus stakeholder discussion.

DATES: The Stakeholder Dialogue comment process, identified by the Docket ID No. TRI-2003-0001, will be held until January 5, 2004.

ADDRESSES: The Stakeholder Dialogue Paper will be accessible via the Internet at http://www.epa.gov/tri/programs/stakeholders/outreach.htm. Comments, identified by Docket ID No. TRI-2003-0001, may be submitted by these methods: electronically to EDOCKET at http://www.epa.gov/edocket (EPA's preferred method) or the U.S. Government's online rulemaking Web site at http://www.regulations.gov; e-mailed to oei.docket@epa.gov; delivered to EPA Docket Center (EPA/DC), EPA West, Room B102, 1301 Constitution Ave., NW., Washington, DC 20004; or mailed to Office of Environmental Information Docket, Mail Code: 28221T, Environmental Protection Agency, 1200 Pennsylvania Ave., NW., Washington, DC 20460-0001. Follow the detailed instructions in Unit I.C. of the SUPPLEMENTARY INFORMATION section of this notice.

FOR FURTHER INFORMATION CONTACT: Larry Reisman, Environmental Protection Agency, Office of Environmental Information, Office of Information Analysis and Access, Toxics Release Inventory Program Division; telephone number: (202) 566-0751; fax number: (202) 566-0727; e-mail: reisman.larry@epa.gov. For general information on the Toxics Release Inventory contact the Emergency Planning and Community Right-to-Know Hotline at (800) 424-9346 or (703) 412-9810, TDD (800) 553-7672, http://www.epa.gov/epaoswer/hotline.

SUPPLEMENTARY INFORMATION:

I. General Information

A. Does This Notice Apply to Me?

You may be interested in this notice if you use data collected under EPCRA section 313, or if you manufacture, process, or otherwise use any of the EPCRA section 313 chemicals and you are required to report annually to EPA their environmental releases and other waste management quantities. Potentially affected categories and entities may include, but are not limited to:

Category | Examples of potentially interested entities
Public | Environmental groups, community groups, researchers.
Industry | SIC major group codes 10 (except 1011, 1081, and 1094), 12 (except 1241), 20 through 39, 4911 (limited to facilities that combust coal and/or oil for the purpose of generating electricity for distribution in commerce), 4931 (limited to facilities that combust coal and/or oil for the purpose of generating electricity for distribution in commerce), 4939 (limited to facilities that combust coal and/or oil for the purpose of generating electricity for distribution in commerce), 4953 (limited to facilities regulated under the Resource Conservation and Recovery Act, subtitle C, 42 U.S.C. section 6921 et seq.), 5169, 5171, or 7389 (limited to facilities primarily engaged in solvents recovery services on a contract or fee basis).
Federal Government | Federal facilities in any SIC code.

This table is not intended to be exhaustive, but rather provides a guide for readers regarding entities likely to be affected by this action. Other types of entities not listed in the table could also be affected. If you have questions regarding the applicability of this action to a particular entity, consult the person listed in the preceding FOR FURTHER INFORMATION CONTACT section.

B. How Can I Get Copies of Information Associated With This Stakeholder Dialogue Process?

1. Docket. EPA has established an official public docket for this action under Docket ID No. TRI-2003-0001. The official public docket is the collection of materials that is available for public viewing at the Office of Environmental Information (OEI) Docket in the EPA Docket Center (EPA/DC), EPA West, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752.

2. Electronic Access. An electronic copy of the issue paper is available from EPA's TRI Web site at http://www.epa.gov/tri/programs/stakeholders/outreach.htm. You may access this Federal Register document electronically through the EPA Internet under the Federal Register listings at http://www.epa.gov/fedrgstr/. On the Home Page select “Laws and Regulations” and then look up the entry for this document under the Federal Register—Environmental Documents.” You can also go directly to the Federal Register listings at http://www.epa.gov/homepage/fedrgstr/.

An electronic version of the public docket is available through EPA's electronic public docket and comment system, EDOCKET. You may use EDOCKET at http://www.epa.gov/edocket/ to submit or view public comments, access the index listing of the contents of the official public docket, and to access those documents in the public docket that are available electronically. Once in the system, select “search,” then key in Docket ID No. “TRI-2003-0001”. The stakeholder issue paper and the Federal Register notice announcing this stakeholder dialogue are also available on the EDOCKET.

Certain types of information will not be placed in the EDOCKET. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EDOCKET, the system will identify whether the document is available for viewing in EPA's electronic public docket. Although not all docket materials may be available electronically, you may still access any of the publicly available docket materials through the docket facility identified in Unit I.B.1.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EDOCKET online or see 67 FR 38102, May 31, 2002.

C. How and To Whom Do I Submit Comments?

You may access the stakeholder dialogue issue paper, instructions for commenting on burden reduction options, and link to the electronic docket to submit and retrieve comments, from the TRI Stakeholder Outreach Web site at: http://www.epa.gov/tri/programs/stakeholders/outreach.htm during the time period specified in this notice.

Commenters are encouraged to use the TRI Stakeholder Outreach Web site to access the issue paper and the instructions for commenting on burden reduction options. The Outreach Web site also provides a link to the EDOCKET Web site for submission of comments and viewing of all comments submitted.

To assist in the organization of all comments received, commenters are asked to state in the beginning of their comments the specific burden reduction option(s) being addressed. If your comment addresses more than one of the options in the stakeholder paper, please indicate in the beginning of your comment the number associated with each of the options addressed. The stakeholder paper has 6 options. Option 6 requests comment on options not specifically discussed in the stakeholder paper. The stakeholder paper also requests comment on the ongoing Toxics Release Inventory—Made Easy (TRI-ME) software. If your comment addresses this software, please state in the beginning of your comment that it addresses “TRI-ME.”

You may submit comments electronically, by mail, or through hand delivery/courier. To avoid unnecessary duplication of comments, please submit your comments through only one method of delivery. To ensure proper receipt by EPA, identify the appropriate docket identification number in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

a. EDOCKET. Go directly to EPA Dockets at http://www.epa.gov/edocket, and follow the online instructions for submitting comments. To access EPA's electronic public docket from the EPA Internet Home Page, select “Information Sources,” “Dockets,” and “EPA Dockets.” Once in the system, select “search,” and then key in Docket ID No. TRI-2003-0001. Please state in the beginning of the comment the specific burden reduction option(s) being addressed by the comment. The system is an “anonymous access” system, which means EPA will not know your identity, e-mail address, or other contact information unless you provide it in the body of your comment.

b. E-mail. Comments may be sent by electronic mail (e-mail) to oei.docket@epa.gov, Attention Docket ID No. TRI-2003-0001. Please state in the beginning of the comment the specific burden reduction option(s) being addressed by the comment. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

c. Disk or CD-ROM. You may submit comments on a disk or CD-ROM that you mail to the mailing address identified in Unit I.C.2. Please state in the beginning of the comment the specific burden reduction option(s) being addressed by the comment. These electronic submissions will be accepted in MS Word, WordPerfect, or ASCII file format. Avoid the use of special characters and any form of encryption.

2. By Mail. Send your comments to: Office of Environmental Information Docket, Environmental Protection Agency, Mail Code: 28221T, 1200 Pennsylvania Ave., NW., Washington, DC, 20460, Attention Docket ID No. TRI-2003-0001. Please state in the beginning of the comment the specific burden reduction option(s) being addressed by the comment.

3. By Hand Delivery or Courier. Deliver your comments to: EPA Docket Center, (EPA/DC) EPA West, Room B102, 1301 Constitution Ave., NW., Washington, DC, 20004, telephone: 202-566-1744, Attention Docket ID No. TRI-2003-0001. Please state in the beginning of the comment the specific burden reduction option(s) being addressed by the comment. Such deliveries are only accepted during the Docket's normal hours of operation as identified in Unit I.B.1.

D. How Should I Submit CBI to the Agency?

Do not submit information that you consider to be CBI electronically through EPA's electronic public docket or by e-mail. Commenters wishing to submit proprietary information for consideration must clearly distinguish such information from other comments and clearly label it as CBI. Send submissions containing such proprietary information directly to the following address only, and not to the public docket, to ensure that proprietary information is not inadvertently placed in the docket: Attention: OEI Document Control Officer, Mail Code: 2822T, U.S. EPA, 1200 Pennsylvania Ave. NW., Washington, DC, 20460. You may claim information that you submit to EPA as CBI by marking any part or all of that information as CBI (if you submit CBI on disk or CD-ROM, mark the outside of the disk or CD-ROM as CBI and then identify electronically within the disk or CD-ROM the specific information that is CBI). The EPA will disclose information claimed as CBI only to the extent allowed by the procedures set forth in 40 CFR part 2.

In addition to one complete version of the comment that includes any information claimed as CBI, a copy of the comment that does not contain the information claimed as CBI must be submitted for inclusion in the public docket and EPA's electronic public docket. If you submit the copy that does not contain CBI on disk or CD-ROM, mark the outside of the disk or CD-ROM clearly that it does not contain CBI. Information not marked as CBI will be included in the public docket and EPA's electronic public docket without prior notice. If you have any questions about CBI or the procedures for claiming CBI, please consult the person identified in the FOR FURTHER INFORMATION CONTACT section.

II. Background

EPA initiated a Stakeholder Dialogue process in September 2002, to identify improvements to the Toxics Release Inventory (TRI) and to develop opportunities to reduce the burden on reporting facilities. A primary goal of this effort by EPA is to reduce burden associated with TRI reporting while at the same time continuing to provide valuable information to the public consistent with the goals and statutory requirements of the TRI program.

While the TRI program has been very successful, EPA is continuing to seek ways to improve the program. Given the community focus of the TRI program and the broad and varied uses of the TRI data, it is important that EPA receive input from all stakeholders—the states, the reporting community and other businesses, community and environmental groups, researchers, and the public.

Phase 1 took place in the fall of 2002 and focused on the reporting, collecting, processing, and annual release of the TRI data. Specifically, EPA sought comment on ways to: (1) Improve the compliance assistance provided by the TRI program, both at Headquarters and in the Regions, to aid the reporting community; (2) streamline the collection and processing of the 90,000 TRI forms that EPA receives annually; and (3) improve the materials, including the context, documents and tools, that EPA develops for its annual public release of the TRI data to support their use and analysis of the data. EPA has received approximately 200 comments and has implemented several of the suggestions. EPA continues to examine ways to further improve TRI data processing, data release, and compliance assistance in light of the comments received.

Phase 2 of the stakeholder dialogue will focus on reducing the burden associated with the TRI reporting requirements. EPA is looking to more fully explore these broadly outlined options with the intention of identifying a specific burden reduction initiative that effectively lessens the burden on facilities but at the same time ensures that TRI continues to provide communities with the same high level of significant chemical release and other waste management information.

Specifically, comment is being requested on a number of options such as: Higher reporting thresholds for small business; expanded use of the Form A Certification Statement; a new, “no significant change” certification statement; and the application of range codes to Section 8 of the Form R. EPA is also engaged in an effort to improve its award-winning Toxics Release Inventory—Made Easy software, and is soliciting comments on specific enhancements that would reduce the burden of TRI reporting. The stakeholder paper describing these and other options for burden reduction is posted on the TRI Web site and is intended to provide background and help focus the stakeholder discussion. Stakeholders are encouraged to comment on any of the specific options discussed in the paper, or as the paper states, stakeholders may comment on options not discussed in the paper.

While the Agency is genuinely interested in pursuing burden reduction, the mere inclusion of an option in this paper does not mean that the Agency has already determined the option to be technically, practically, and legally feasible. Instead, each option included in this paper is intended to encourage thoughtful comment that develops a meaningful burden reduction initiative that is technically, practically, and legally feasible.

Dated: October 30, 2003.
Elaine G. Stanley,
Director, Office of Information Analysis and Access.

[FR Doc. 03-27850 Filed 11-4-03; 8:45 am]

BILLING CODE 6560-50-P